DEPARTMENT OF THE INTERIOR

Fish and Wildlife Service

Notice of Intent To Prepare an Environmental Impact Statement (EIS) and Notice of a Public Scoping Meeting Related to the Pima County Multi-Species Conservation Plan To Be Held on October 4, 2003

AGENCY: Fish and Wildlife Service, Interior.

ACTION: Notice of Intent to prepare an EIS and notice of a public scoping meeting.

SUMMARY: Pursuant to the National Environmental Policy Act (NEPA), this notice advises the public that the U.S. Fish and Wildlife Service (Service) intends to prepare an EIS to evaluate the impacts of and alternatives for the possible issuance of an incidental take permit, pursuant to section 10(a)(1)(B) of the Endangered Species Act of 1973, as amended (Act), to Pima County. Pima County is preparing to apply for an incidental take permit through development and implementation of the Pima County Multi-Species Conservation Plan (MSCP), which will serve as a habitat conservation plan, as required by the Act, for issuance of an incidental take permit. The Pima County MSCP will include measures necessary to minimize and mitigate the effects of the proposed taking of listed and sensitive species and their habitats.

Date of Scoping Meeting: A public scoping meeting will be held on October 4, 2003, at 10 a.m. at the Pima County Public Works.

DATES: Written comments on possible conservation alternatives and issues to be addressed in the EIS must be received by October 27, 2003.

ADDRESSES: Written comments should be sent to Mr. Steven L. Spangle, Field Supervisor, U.S. Fish and Wildlife Service, 2321 West Royal Palm Road, Suite 103, Phoenix, AZ, 85021. Oral and written comments will also be accepted at the public scoping meeting to be held at the offices of Pima County Public Works, Room C in the Basement, 201 North Stone Avenue, Tucson, Arizona 85701.

Comments, as well as the names and addresses of commentors, may be disclosed under the Freedom of Information Act unless a commentor gives a privacy or other exemption justification.

FOR FURTHER INFORMATION CONTACT: On the EIS, Contact: Ms. Sherry Barrett, Assistant Field Supervisor, Tucson Suboffice, U.S. Fish and Wildlife Service, 110 S. Church, Suite 3450, Tucson, AZ, 85701, at 520/670-4617.

For Further Information on the Pima County MSCP Contact: Mr. Paul Fromer, RECON, 1927 Fifth Avenue, Suite 200, San Diego, California 92101-2358 at 619/308-9333. Information on the purpose, membership, meeting schedules, and documents associated with the Pima County MSCP may be obtained on the Internet at http://www.co.pima.az.us/cmo/sdcp/index.html.

SUPPLEMENTARY INFORMATION: This notice advises the public that the Service intends to gather information necessary to determine impacts and alternatives for an EIS related to the issuance of an incidental take permit to Pima County, pursuant to section 10(a)(1)(B) of the Endangered Species Act of 1973, as amended (Act), and the implementation of the Pima County Multi-Species Conservation Plan (MSCP), which will provide measures to minimize and mitigate the effects of the incidental take of federally listed species.

Background

Pima County, Arizona, is home to over 800,000 residents, and the population is expected to reach 1.2 million by the year 2020. The Pima County Board of Supervisors is responsible for the protection of those lands in Pima County that are of environmental, cultural, or historic importance. Given Pima County's rapid growth rate, the Board of Supervisors has recognized the need to balance economic, environmental, and human interests by implementing a regional, ecosystem-based multi-species conservation program.

In October of 1998, Pima County developed a draft Sonoran Desert Conservation Concept Plan (SDCP). Pima County adopted the SDCP in concept in March 1999 to frame future regional land-use conservation planning and formed an 84-member Steering Committee and numerous technical teams.

Pima County also agreed to pursue an ecosystem-based approach to developing the SDCP for interim and long-term compliance with applicable endangered species and environmental laws and to implement conservation and protection measures for species and habitat covered in the SDCP. In December 2001, the Pima County Board of Supervisors adopted the Pima County Comprehensive Plan Update, which incorporates aspects of the SDCP.

On June 17, 2003, the recommendations of the Steering Committee were presented to the Pima County Board of Supervisors for formulation of the preferred alternative for the MSCP.

Purpose of and Need for Action

The purpose of and need for the proposed Pima County MSCP are: (1) to ensure the long-term survival of the full spectrum of plants and animals that are indigenous to Pima County, through maintaining or improving the habitat conditions and ecosystems necessary for their survival; and (2) to provide the framework for a combination of actions to protect and enhance the natural environment through comprehensive, long-range planning. This will ensure that the County's natural and urban environments can not only coexist, but can also develop an interdependent relationship with one another. This relationship will guide already approved public bond investments and conservation and preservation actions, define Federal program and funding priorities, and establish a regional preference for the expenditure of State funds to preserve and protect State Trust lands threatened by urbanization.

Section 9 of the Act prohibits the “taking” of threatened and endangered species. The Service may, however, under limited circumstances, issue permits that allow the incidental take of federally listed and candidate species, incidental to, and not the purpose of, the carrying out of otherwise lawful activities. Regulations governing permits for endangered and threatened species are at 50 CFR 17.22 and 17.32, respectively. The term “take” under the Act means to harass, harm, pursue, hunt, shoot, wound, kill, trap, capture, or collect, or attempt to engage in any such conduct. Regulations define “harm” as significant habitat modification or degradation that results in death or injury to listed species by significantly impairing essential behavioral patterns, including breeding, feeding, or sheltering (50 CFR 17.3). The proposed permit would allow approved incidental take that is consistent with the conservation guidelines of the Pima County MSCP.

Section 10(a)(1)(B) of the Act contains provisions for issuing incidental take permits to non-federal entities for the take of endangered and threatened species, provided the following criteria are met:

1. The taking will be incidental;

2. The applicant will, to the maximum extent practicable, minimize and mitigate the impact of such taking;

3. The applicant will ensure that adequate funding for the Plan will be provided;

4. The taking will not appreciably reduce the likelihood of the survival and recovery of the species in the wild; and

5. Any other measures that the Service may require as being necessary or appropriate for the purposes of the Plan.

The Pima County MSCP considers the Act's section 10(a)(1)(B) requirements and is consistent with Pima County's larger conservation and land-use vision.

We anticipate that Pima County will request permit coverage for a period of 20 to 50 years. Implementation of the Pima County MSCP will result in the establishment of a conservation lands system that is expected to provide for the conservation of covered species and their habitats in perpetuity. Research and monitoring in combination with adaptive management will be used to facilitate accomplishment of these goals.

Proposed Action

The proposed action is the issuance of an incidental take permit for listed and sensitive species in Pima County, pursuant to section 10(a)(1)(B) of the Act. Pima County will develop and implement the Pima County MSCP, which will serve as a habitat conservation plan, as required by section 10(a)(2)(A) of the Act. The Pima County MSCP will provide measures to minimize and mitigate the effects of the taking on listed and sensitive species and their habitats. The biological goal of the Pima County MSCP is to ensure the long-term survival of the full spectrum of plants and animals that are indigenous to Pima County through maintaining or improving the habitat conditions and ecosystem functions necessary for their survival and to ensure that any incidental take of listed species will not appreciably reduce the likelihood of the survival and recovery of those species.

The purpos of the scoping meeting to be held on October 4, 2003, at 10:00 a.m. at the offices of Pima County Public Works, Room C in the Basement, 201 North Stone Avenue, Tucson, Arizona is to brief the public on the background of the Pima County MSCP, alternative proposals under consideration for the draft EIS, and the Fish and Wildlife Service's role and steps that we will take to develop the draft EIS for this habitat conservation planning effort. At the scoping meeting, there will be an opportunity for the public to ask questions, to provide oral comments and also to provide written comments. Written comments may also be sent to the Fish and Wildlife Service by mail (see Addresses section above).

Activities proposed for coverage under the incidental take permit include lawful activities that would occur consistent with the Pima County MSCP conservation guidelines and include, but are not limited to, maintenance of county operations, implementation of capital improvement projects, and issuance of land-use related permits, including those for residential and commercial development.

Pima County is expected to apply for an incidental take permit for 55 vulnerable species that would be protected within their Conservation Lands System map. The 55 species include the following federally listed species: the lesser long-nosed bat (Leptonycteris curasoae yerbabuenae), cactus ferruginous pygmy-owl (Glaucidium brasilianum cactorum), southwestern willow flycatcher (Empidonax traillii extimus), Chiricahua leopard frog (Rana Chiricahuensis), desert pupfish (Cyprinodon macularius), Gila topminnow (Poeciliopsis occidentalis occidentalis), Huachuca water umbel (Lilaeopsis schaffneriana var. recurva), Nichol Turk's head cactus (Echinocactus horizonthalonius var. nicholli), and Pima pineapple cactus (Coryphantha scheeri var. robustispina). In addition, Pima County will seek to address and cover the Gila chub (Gila intermedia), a species proposed for listing, and the Acuna cactus (Echinomastus erectocentrus var. acunensis) and yellow-billed cuckoo (Coccyzus americanus spp. Occidentalis), both of which are candidates for listing. Pima County is also seeking to address and cover at least 43 other rare and/or sensitive species that occur in the County. Unlisted species that are considered as if they were listed, and that the Service finds are adequately conserved by the Pima County MSCP, will be automatically permitted for incidental take should they be listed as federally threatened or endangered species in the future. Numerous other listed and sensitive species for which Pima County is not seeking permit coverage will also benefit from the conservation measures provided in the Pima County MSCP through protection of similar or overlapping habitat conditions and ecosystem functions.

Alternatives

The proposed action and alternatives that will be developed in the EIS will be assessed against the No Action/No Project alternative, which assumes that some or all of the current and future projects proposed in Pima County would be implemented individually, one at a time, and be in compliance with the Act. The No Action/No Project alternative implies that the impacts from these potential projects on sensitive species and habitats would be evaluated and mitigated on a project-by-project basis, as is currently the case. For any activities involving take of listed species due to non-federal projects/actions, individual Section 10(a)(1)(B) permits would be required. Without a coordinated, comprehensive ecosystem-based conservation approach for the region, listed species may not be adequately addressed by individual project-specific mitigation requirements, unlisted candidate and sensitive species would not receive proactive action intended to preclude the need to list them in the future, and project-specific mitigation would be piecemeal and less cost effective in helping Federal and non-federal agencies work toward recovery of listed species. Current independent conservation actions would continue, although some of these are not yet funded.

Other alternatives that may be considered in the EIS include issuance of an incidental take permit for only the 9 currently listed species, plus those species that would be adequately addressed by the conservation measures enacted for those 9 species; issuance of an incidental take permit for an undetermined number of listed and unlisted species within the 55 identified vulnerable species; and issuance of an incidental take permit for the species within the 55 identified vulnerable species that are currently listed as threatened and endangered or are candidates or proposed for listing. In addition, alternatives may consider varying levels of take anticipated and amount and location of mitigation.

Environmental Review

The primary issue to be addressed during the scoping and planning process for the MSCP and EIS is how to resolve potential conflicts between development or land management practices and listed and sensitive species in Pima County. We have identified a preliminary list of probable environmental issues and effects associated with the proposed action. Other issues may be identified during the development of the Pima County MSCP and through the public scoping process. Until a firm proposal and alternatives with specific actions and locations are developed, it is difficult to predict more specific impacts. The preliminary list is as follows:

Urban land uses, including residential, commercial, and industrial development. Transportation, Water resources, including watershed function and water quality. Agriculture, air resources, cultural and historic resources, recreation. Ranching practices and livestock grazing, mineral resources, utility rights-of-way, fire Management, social and economic resources, environmental justice

We will conduct an environmental review that analyzes the proposed action, as well as a range of reasonable alternatives and the associated impacts of each. The EIS will be the basis for the Service's evaluation of impacts to the species and the range of alternatives to be addressed. The EIS is expected to provide biological descriptions of the affected species and habitats and an analysis of the socioeconomic effects of the proposed action.

This notice is being furnished in accordance with 40 CFR 1501.7. Comments and suggestions are invited from all interested parties to ensure that a range of issues and alternatives related to the proposed action are identified. The review of this project will be conducted according to the requirements of the National Environmental Policy Act of 1969, as amended (42 U.S.C. 4321 et seq.), National Environmental Policy Act Regulations (40 CFR 1500-1508), other appropriate Federal laws, regulations, policies, and guidance, and Service procedures for compliance with those regulations.

After the environmental review is complete, we will publish a notice of availability and a request for comment on the draft EIS and Pima County's permit application, which will include the Pima County MSCP.

The draft EIS is expected to be completed and available to the public by December 2003.

Bryan Arroyo,
Acting Regional Director, Southwest Region, Albuquerque, New Mexico.

[FR Doc. 03-23355 Filed 9-11-03; 8:45 am]

BILLING CODE 4510-55-P